DEPARTMENT OF JUSTICE

Antitrust Division

Notice Pursuant to the National Cooperative Research and Production Act of 1993—National Armaments Consortium

Notice is hereby given that, on February 13, 2023, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances.

Specifically, AEV Limited LLC, Westlake, OH; Amentum Services, Inc., Germantown, MD; Ampersand Solutions Group, Inc., Huntsville, AL; Analex Corporation dba Arcfield, Huntsville, AL; Arcturus UAV, Inc., Petaluma, CA; Bevilacqua Research Corporation, Huntsville, AL; Carbon-Carbon Advanced Technologies, Inc., Arlington, TX; DRS Network & Imaging Systems LLC, Dallas, TX; DYNAFLOW, Inc., Jessup, MD; Halocarbon LLC, Peachtree Corners, GA; KBM Enterprises, Inc., Huntsville, AL; Kennametal, Inc., Rogers, AR; L3Harris Cincinnati Electronics Corporation, Mason, OH; Nanohmics, Inc., Austin, TX; Perpetua Resources Idaho, Inc., Boise, ID; Prescott Machine LLC, Saginaw, MI; SunRay Scientific, Inc., Eatontown, NJ; Ultra Electronics Advanced Tactical Systems, Inc., Austin, TX; Ursa Major Technologies, Inc., Berhoud, CO; Using Design To Multiply Outcomes, Scottsdale, AZ; VoiceIt Technologies, Inc., Minneapolis, MN; Willerding Acquisition Corp. DBA WB Industries, O'Fallon, MO; and X-Bow Launch Systems Inc., Albuquerque, NM, have been added as parties to this venture.

Also, Advanced Technology Systems Company of Virginia, McLean, VA; Fairlead Integrated LLC, Portsmouth, VA; MAC LLC, Bay St. Louis, MS; PECO, Inc., Clackamas, OR; Sertainty Corp., Nashville, TN; and Telephonics Corp., Farmingdale, NY, have withdrawn as parties to this venture.

Also, Ultramet, Pacoima, CA was added as a party to this venture and has subsequently withdrawn as a party to this venture.

No other changes have been made in either the membership or planned activity of the group research project. Membership in this group research project remains open, and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on October 7, 2022. A notice was published in the Federal Register pursuant to Section 6(b) of the Act on November 23, 2022 (87 FR 71678).

Suzanne Morris,
Deputy Director, Civil Enforcement Operations, Antitrust Division.

[FR Doc. 2023-06219 Filed 3-24-23; 8:45 am]

BILLING CODE P